DEPARTMENT OF COMMERCE

International Trade Administration

[A-580-886]

Ferrovanadium From the Republic of Korea: Final Determination of Sales at Less Than Fair Value

AGENCY: Enforcement and Compliance, International Trade Administration, Department of Commerce.

SUMMARY: The Department of Commerce (“the Department”) determines that imports of ferrovanadium from the Republic of Korea are being, or are likely to be, sold in the United States at less than fair value (“LTFV”). The final estimated weighted-average dumping margins of sales at LTFV are listed below in the section entitled “Final Determination Dumping Margins.” The period of investigation (“POI”) is January 1, 2015, through December 31, 2015.

DATES: Effective March 23, 2017.

FOR FURTHER INFORMATION CONTACT: Karine Gziryan or Eli Lovely, AD/CVD Operations, Office IV, Enforcement and Compliance, International Trade Administration, U.S. Department of Commerce, 1401 Constitution Avenue NW., Washington, DC 20230; telephone: (202) 482-4081 or (202) 482-1593.

SUPPLEMENTARY INFORMATION:

Background

The Department published in the Federal Register the Preliminary Determination on November 1, 2016.¹ A summary of the events that have occurred since the Department published the Preliminary Determination, as well as a full discussion of the issues raised by parties for this final determination, may be found in the Issues and Decision Memorandum.² The Issues and Decision Memorandum is a public document and is on file electronically via Enforcement and Compliance's Antidumping and Countervailing Duty Centralized Electronic Service System (ACCESS). ACCESS is available to registered users at http://access.trade.gov and is available to all parties in the Central Records Unit, room B8024 of the main Department of Commerce building. In addition, a complete version of the Issues and Decision Memorandum can be accessed directly at http://enforcement.trade.gov. The signed and electronic versions of the Issues and Decision Memorandum are identical in content.

¹ See Ferrovanadium From the Republic of Korea: Affirmative Preliminary Determination of Sales at Less Than Fair Value and Postponement of Final Determination and Extension of Provisional Measures, 81 FR 75806 (November 1, 2016) (“Preliminary Determination”).

² See Memorandum from Gary Taverman, Associate Deputy Assistant Secretary for Antidumping and Countervailing Duty Operations, to Ronald K. Lorentzen Acting Assistant Secretary for Enforcement and Compliance “Ferrovanadium from the Republic of Korea: Issues and Decision Memorandum for the Final Determination of Sales at Less-Than-Fair-Value,” dated concurrently with this notice (“Issues and Decision Memorandum”).

Scope of the Investigation

The product covered by this investigation is all ferrovanadium regardless of grade (i.e., percentage of contained vanadium), chemistry, form, shape, or size. Ferrovanadium is an alloy of iron and vanadium. Ferrovanadium is classified under Harmonized Tariff Schedule of the United States (“HTSUS”) item number 7202.92.0000. Although this HTSUS item number is provided for convenience and Customs purposes, the written description of the scope of the investigation is dispositive.

Use of Adverse Facts Available (“AFA”)

As noted in the Preliminary Determination, two of the three mandatory respondents in this investigation, Woojin Industry Co., Ltd. (“Woojin”), and Fortune Metallurgical Group Co., Ltd. (“Fortune”), failed to respond to the Department's questionnaire or otherwise participate in the investigation. Therefore, we preliminarily based their dumping margins on facts otherwise available with an adverse inference, pursuant to sections 776(a) and (b) of the Tariff Act of 1930, as amended (“the Act”) and assigned to them the petition dumping margin of 54.69 percent.³ No parties commented on this preliminary decision. For this final determination, we have continued to assign Fortune and Woojin a dumping margin of 54.69 percent as AFA.

³ See Ferrovanadium From the Republic of Korea: Affirmative Preliminary Determination of Sales at Less Than Fair Value and Postponement of Final Determination and Extension of Provisional Measures, 81 FR 75806 (November 1, 2016).

Analysis of Comments Received

All issues raised in the case and rebuttal briefs that were submitted by parties in this investigation are addressed in the Issues and Decision Memorandum accompanying this notice, which is hereby adopted by this notice. A list of the issues addressed in the Issues and Decision Memorandum is attached to this notice in the Appendix.

Verification

As provided in section 782(i) of the Act, in November 2016, the Department verified the sales and cost data reported by Korvan Ind., Co., Ltd. (“Korvan”), the sole cooperating mandatory respondent in this investigation. We used standard verification procedures, including an examination of relevant accounting and production records, and original source documents provided by Korvan.

Changes to the Dumping Margin Calculations Since the Preliminary Determination

Based on our analysis of the comments received and our findings at verification, we made certain changes to the dumping margin calculation for Korvan. For a discussion of these changes, see the Issues and Decision Memorandum.

All-Others Rate

Section 735(c)(5)(A) of the Act provides that the estimated “all-others” rate shall be an amount equal to the weighted average of the estimated weighted-average dumping margins established for exporters and producers individually investigated, excluding any zero or de minimis dumping margins, and any dumping margins determined entirely under section 776 of the Act. We based our calculation of the “all-others” rate on the dumping margin calculated for Korvan, the only participating mandatory respondent in this investigation.

Final Determination Dumping Margins

The Department determines that the following estimated weighted-average dumping margins exist:

Exporter/producer | Weighted- average dumping margins (percent)
Fortune Metallurgical Group Co., Ltd | 54.69
Korvan Ind. Co., Ltd | 3.22
Woojin Ind. Co., Ltd | 54.69
All-Others | 3.22

Disclosure

We intend to disclose to parties in this proceeding the calculations performed for this final determination within five days of the date of public announcement of our final determination, in accordance with 19 CFR 351.224(b).

Continuation of Suspension of Liquidation

Pursuant to section 735(c)(1)(B) of the Act, the Department will instruct U.S. Customs and Border Protection (“CBP”) to continue to suspend liquidation of all entries of ferrovanadium from the Republic of Korea which were entered, or withdrawn from warehouse, for consumption on or after November 1, 2016, the date of publication of the Preliminary Determination. These suspension of liquidation instructions will remain in effect until further notice.

Pursuant to section 733(d) of the Act and 19 CFR 351.205(d), we will instruct CBP to require cash deposits equal to the weighted-average amount by which the normal value exceeds U.S. price, as indicated in the table above, as follows: (1) The cash deposit for the mandatory respondents listed above will be the respondent-specific weighted-average dumping margin listed for the respondent in the table above; (2) if the exporter is not a mandatory respondent identified above, but the producer is, the cash deposit rate will be the weighted-average dumping margin established for the producer of the subject merchandise; and (3) the rate for all other producers or exporters will be the all others rate listed in the table above.⁴

⁴ See Modification of Regulations Regarding the Practice of Accepting Bonds During the Provisional Measures Period in Antidumping and Countervailing Duty Investigations, 76 FR 61042 (October 3, 2011).

International Trade Commission Notification

In accordance with section 735(d) of the Act, we will notify the U.S. International Trade Commission (“ITC”) of our final determination. As our final determination is affirmative, in accordance with section 735(b)(2) of the Act, the ITC will determine within 45 days of the final determination whether the domestic industry in the United States is materially injured, or threatened with material injury, by reason of imports, or sales (or the likelihood of sales) for importation, of the subject merchandise. If the ITC determines that such injury exists, the Department will issue an antidumping duty order directing CBP to assess, upon further-instruction by the Department, antidumping duties on all imports of the subject merchandise entered, or withdrawn from warehouse, for consumption on or after the effective date of the suspension of liquidation.

Notification Regarding Administrative Protective Orders (“APOs”)

This notice will serve as a reminder to parties subject to APOs of their responsibility concerning the disposition of proprietary information disclosed under APO in accordance with 19 CFR 351.305(a)(3). Timely written notification of the destruction of APO materials or conversion to judicial protective order is hereby requested. Failure to comply with the-regulations and the terms of an APO is a sanctionable violation.

This determination and notice are issued and published in accordance with sections 735(d) and 777(i) of the Act.

Dated: March 16, 2017.
Ronald K. Lorentzen,
Acting Assistant Secretary for Enforcement and Compliance.

Appendix

List of Topics in the Issues and Decision Memorandum

I. Summary

II. List of Issues

III. Background

IV. Scope of the Investigation

V. Discussion of the Issues

Comment 1: Whether the Department Should Use Contract Date as the Date of Sale for Korvan's Sales to one of its U.S. Customers

Comment 2: Duty Drawback

Comment 3: Whether the Department Should Continue to Treat Korvan's Separate Home Market Sale of Korvan-Produced and Korvan-Purchased Ferrovanadium as a Separate Sales

Comment 4: Whether the Department Should Apply Its Standard Average-To-Average Method Calculating the Margin in the Final Determination

Comment 5: Whether the Department Made Certain Ministerial Errors in its Calculations

Comment 6: General and administrative (G&A) Expenses

Comment 7: Financial Expenses

Comment 8: Whether to Continue to Apply a Quarterly Cost Methodology

V. Recommendation

[FR Doc. 2017-05808 Filed 3-22-17; 8:45 am]

BILLING CODE 3510-DS-P